DEPARTMENT OF THE INTERIOR

National Park Service

[NPS-NERO-CAJO-25264; PPNECAJO00 PPMPSPD1Z.Y00000]

Captain John Smith Chesapeake National Historic Trail Advisory Council Notice of Public Meeting

AGENCY: National Park Service, Interior.

ACTION: Meeting notice.

SUMMARY: In accordance with the Federal Advisory Committee Act of 1972, the National Park Service (NPS) is hereby giving notice that the Captain John Smith Chesapeake National Historic Trail Advisory Council (Council) will meet as indicated below.

DATES: The Council will meet on Tuesday, May 15, 2018, from 9:30 a.m. to 4:30 p.m., and on Wednesday, May 16, 2018, from 9:00 a.m. to 12:30 p.m. (EASTERN). A public comment period will be held on Tuesday from 4-4:30 p.m. and Wednesday from 12-12:30 p.m.

ADDRESSES: The meeting will be held at the Historic Jamestown Visitor Center, 1368 Colonial Parkway, Jamestown, Virginia 23081.

FOR FURTHER INFORMATION CONTACT: Christine Lucero, Partnership Coordinator, telephone (757) 856-1213; email christine_lucero@nps.gov.

SUPPLEMENTARY INFORMATION: Designated through an amendment to the National Trails System Act (16 U.S.C. 1241 to 1251, as amended), the Captain John Smith Chesapeake National Historic Trail consists of “a series of water routes extending approximately 3,000 miles along the Chesapeake Bay and the tributaries of the Chesapeake Bay in the States of Virginia, Maryland, Delaware, and in the District of Columbia,” tracing the 1607-1609 voyages of Captain John Smith to chart the land and waterways of the Chesapeake Bay. In 2012, the trail was extended to include four river segments closely associated with Captain John Smith's exploration of the Chesapeake Bay, including the north and west branches of the Susquehanna River.

The Designated Federal Officer for the Council is Jonathan Doherty, Assistant Superintendent, NPS Chesapeake Bay Office, telephone (410) 260-2477 or email jonathan_doherty@nps.gov.

Purpose of the Meeting: The purpose of the meeting is to discuss segment planning, land and resource management, and the National Register of Historic Places eligibility process. The meeting is open to the public.

Preregistration is required for public attendance. Any individual who wishes to attend the meeting should register via email at christine_lucero@nps.gov or telephone (757) 856-1213. To the extent that time permits, the Council chairman will allow public presentation of oral comments at the meeting. Any member of the public may file written statements with the Council before, during, or up to 30 days after the meeting either in person or by email. To allow full consideration of information by Council members, written comments must be provided to Christine Lucero at christine_lucero@nps.gov at least two (2) business days prior to the meeting. Any written comments received prior to the meeting will be provided to the Council members at the meeting.

Public Disclosure of Comments: Before including your address, phone number, email address, or other personal indentifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2018-09109 Filed 4-30-18; 8:45 am]

BILLING CODE 4312-52-P